DEPARTMENT OF ENERGY

Federal Energy Regulatory Commission

Combined Notice of Filings #1

Take notice that the Commission received the following electric corporate filings:

Docket Numbers: EC20-84-000.

Applicants: Midwest Generation, LLC.

Description: Application for Authorization Under Section 203 of the Federal Power Act, et al. of Midwest Generation, LLC.

Filed Date: 7/24/20.

Accession Number: 20200724-5066.

Comments Due: 5 p.m. ET 8/14/20.

Take notice that the Commission received the following electric rate filings:

Docket Numbers: ER12-606-001.

Applicants: UGI Development Company.

Description: Compliance filing: Informational Filing for Waiver per FERC (Docket ER12-606) to be effective N/A.

Filed Date: 7/24/20.

Accession Number: 20200724-5028.

Comments Due: 5 p.m. ET 8/14/20.

Docket Numbers: ER14-2798-015; ER18-494-004.

Applicants: Beech Ridge Energy II LLC, Beech Ridge Energy II Holdings LLC.

Description: Supplement to June 1, 2020 Notification of Non-Material Change in Status of the BR Sellers.

Filed Date: 7/24/20.

Accession Number: 20200724-5095, 20200724-5135.

Comments Due: 5 p.m. ET 8/14/20.

Docket Numbers: ER16-2095-005.

Applicants: Midwest Generation, LLC.

Description: Compliance filing: Informational Filing Regarding Transfer of Ownership and Request for Waiver to be effective N/A.

Filed Date: 7/24/20.

Accession Number: 20200724-5116.

Comments Due: 5 p.m. ET 8/14/20.

Docket Numbers: ER20-1074-003.

Applicants: Marsh Landing LLC.

Description: Compliance filing: Compliance Filing of Black Start Agreement to be effective 4/26/2020.

Filed Date: 7/24/20.

Accession Number: 20200724-5064.

Comments Due: 5 p.m. ET 8/14/20.

Docket Numbers: ER20-2051-001.

Applicants: Niagara Mohawk Power Corporation, New York Independent System Operator, Inc.

Description: Compliance filing: Amendment Niagara Mohawk Order No. 864 compliance transmission service charge to be effective 1/27/2020.

Filed Date: 7/24/20.

Accession Number: 20200724-5018.

Comments Due: 5 p.m. ET 8/14/20.

Docket Numbers: ER20-2316-000.

Applicants: Hillcrest Solar I, LLC.

Description: Supplement to July 2, 2020 Hillcrest Solar I, LLC tariff.

Filed Date: 7/24/20.

Accession Number: 20200724-5070.

Comments Due: 5 p.m. ET 8/14/20.

Docket Numbers: ER20-2496-000.

Applicants: UGI Development Company.

Description: Tariff Cancellation: Notice of Cancellation of Certificate of Concurrence to be effective 12/31/9998.

Filed Date: 7/24/20.

Accession Number: 20200724-5029.

Comments Due: 5 p.m. ET 8/14/20.

Docket Numbers: ER20-2497-000.

Applicants: PJM Interconnection, L.L.C.

Description: § 205(d) Rate Filing: Original ISA, SA No. 5685; Queue No. AF1-186 to be effective 6/29/2020.

Filed Date: 7/24/20.

Accession Number: 20200724-5061.

Comments Due: 5 p.m. ET 8/14/20.

Docket Numbers: ER20-2498-000.

Applicants: GenOn REMA, LLC.

Description: § 205(d) Rate Filing: Market-Based Rate Tariff Revisions to be effective 7/25/2020.

Filed Date: 7/24/20.

Accession Number: 20200724-5065.

Comments Due: 5 p.m. ET 8/14/20.

Docket Numbers: ER20-2499-000.

Applicants: Virginia Electric and Power Company, PJM Interconnection, L.L.C.

Description: § 205(d) Rate Filing: Dominion submits a WDSA, SA No. 5723 re: TWE Myrtle facility to be effective 6/24/2020.

Filed Date: 7/24/20.

Accession Number: 20200724-5073.

Comments Due: 5 p.m. ET 8/14/20.

Docket Numbers: ER20-2500-000.

Applicants: Southwest Power Pool, Inc.

Description: § 205(d) Rate Filing: Tariff Clean-Up Filing Effective 20200801 to be effective 8/1/2020.

Filed Date: 7/24/20.

Accession Number: 20200724-5075.

Comments Due: 5 p.m. ET 8/14/20.

Docket Numbers: ER20-2501-000.

Applicants: Southwest Power Pool, Inc.

Description: § 205(d) Rate Filing: 1518R20 Arkansas Electric Cooperative Corp NITSA NOA to be effective 7/1/2020.

Filed Date: 7/24/20.

Accession Number: 20200724-5079.

Comments Due: 5 p.m. ET 8/14/20.

Docket Numbers: ER20-2502-000.

Applicants: California Independent System Operator Corporation.

Description: § 205(d) Rate Filing: 2020-07-24 Amended EIM Agreement with BANC to be effective 3/25/2021.

Filed Date: 7/24/20.

Accession Number: 20200724-5093.

Comments Due: 5 p.m. ET 8/14/20.

Docket Numbers: ER20-2503-000.

Applicants: Paulding Wind Farm IV LLC.

Description: Baseline eTariff Filing: Reactive Power Compensation Filing to be effective 9/21/2020.

Filed Date: 7/23/20.

Accession Number: 20200723-5161.

Comments Due: 5 p.m. ET 8/13/20.

Docket Numbers: ER20-2504-000.

Applicants: Silver Run Electric, LLC, PJM Interconnection, L.L.C.

Description: § 205(d) Rate Filing: Silver Run submits revisions to OATT, Att. H-27 re: Amortization to be effective 9/23/2020.

Filed Date: 7/24/20.

Accession Number: 20200724-5125.

Comments Due: 5 p.m. ET 8/14/20.

Docket Numbers: ER20-2505-000.

Applicants: Triple H Wind Project, LLC.

Description: Baseline eTariff Filing: Application for Market-Based Rate Authorization, Request for Related Waivers to be effective 10/1/2020.

Filed Date: 7/24/20.

Accession Number: 20200724-5127.

Comments Due: 5 p.m. ET 8/14/20.

Docket Numbers: ER20-2506-000.

Applicants: Dakota Range III, LLC.

Description: Baseline eTariff Filing: Application for Market-Based Rate Authorization, Request for Related Waivers to be effective 10/1/2020.

Filed Date: 7/24/20.

Accession Number: 20200724-5128.

Comments Due: 5 p.m. ET 8/14/20.

Take notice that the Commission received the following electric securities filings:

Docket Numbers: ES20-50-000.

Applicants: New England Power Company.

Description: Application Under Section 204 of the Federal Power Act for Authorization to Issue Securities of New England Power Company under ES20-50.

Filed Date: 7/24/20.

Accession Number: 20200724-5105.

Comments Due: 5 p.m. ET 7/29/20.

Take notice that the Commission received the following public utility holding company filings:

Docket Numbers: PH20-14-000.

Applicants: New Jersey Resources Corporation.

Description: New Jersey Resources Corporation submits FERC-65-A Notice of Material Change in Facts and Exemption Notification.

Filed Date: 7/24/20.

Accession Number: 20200724-5129.

Comments Due: 5 p.m. ET 8/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2020.
Nathaniel J. Davis, Sr.,
Deputy Secretary.

[FR Doc. 2020-16513 Filed 7-29-20; 8:45 am]

BILLING CODE 6717-01-P